DEPARTMENT OF ENERGY

Federal Energy Regulatory Commission

[Project No. 9185-009]

Flambeau Hydro, LLC; Notice of Application Accepted for Filing and Soliciting Motions To Intervene and Protest

June 20, 2005.

Take notice that the following hydroelectric application has been filed with the Commission and is available for public inspection.

a. Type of Application: Subsequent License.

b. Project No.: P-9185-009.

c. Date Filed: April 1, 2005.

d. Applicant: Flambeau Hydro, LLC.

e. Name of Project: Clam River Hydroelectric Project.

f. Location: On the Clam River in Burnett County, near Danbury, Wisconsin. The project does not occupy federal lands.

g. Filed Pursuant to: Federal Power Act 16 U.S.C. 791(a)-825(r).

h. Applicant Contact: Scott Klabunde, North American Hydro, Inc., P.O. Box 167, Neshkoro, WI 54960; 920-293-4628 ext. 14.

i. FERC Contact: Patrick Murphy, (202) 502-8755 or patrick.murphy@ferc.gov.

j. Deadline for filing motions to intervene and protest: 60 days from the issuance date of this notice.

All documents (original and eight copies) should be filed with: Magalie R. Salas, Secretary, Federal Energy Regulatory Commission, 888 First Street, NE., Washington, DC 20426.

The Commissions Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See CFR 385.200 (a)(1)(iii) and the instructions on the Commission's Web site (http://www.ferc.gov) under the “eFiling” link.

l. This application has been accepted, but is not ready for environmental analysis at this time. The existing Clam River Project consists of: (1) A 46-foot-high buttress type concrete dam with a 54-foot-wide spillway with four sections, three sections equipped with 8-inch-high stoplogs, and one section equipped with a 4-foot-high slide gate; (2) an 898-foot-long and 223-foot-long earthen dikes connecting the left side and the right side of the concrete dam, respectively; (3) a 360-acre reservoir with a net storage capacity of 3,575 acre-feet with a water surface elevation of 898.9 feet msl; (4) two powerhouses integral to the dam containing three turbine generating units with a total installed capacity of 1,200 kW; (5) a 100-foot-long, 2.4-kilovolt transmission line; and (6) appurtenant facilities. The applicant estimates that the total average annual generation would be 4,903 megawatthours.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h. above.

You may also register online at http://www.ferc.gov/esubscribenow.htm to be notified via e-mail of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE”; (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule and final amendments: The application will be processed according to the following Hydro Licensing Schedule. Revisions to the schedule will be made as appropriate. The Commission staff proposes to issue one environmental assessment rather than issue a draft and final EA. Comments, terms and conditions, recommendations, prescriptions, and reply comments, if any, will be addressed in the EA. Staff intends to give at least 30 days for entities to comment on the EA before final action is taken on the license application.

Issue Scoping Document for Comments: July 2005.

Notice application ready for environmental analysis: September 2005.

Notice of the availability of the EA: March 2006.

Ready for Commission's decision on the Application: May 2006.

Final amendments to the application must be filed with the Commission no later than 30 days from the issuance date of the notice of ready for environmental analysis.

Magalie R. Salas,
Secretary.

[FR Doc. E5-3301 Filed 6-24-05; 8:45 am]

BILLING CODE 6717-01-P